DEPARTMENT OF COMMERCE

United States Patent and Trademark Office

[Docket No. PTO-C-2008-0001]

National Medal of Technology and Innovation Call for 2008 Nominations

AGENCY: United States Patent and Trademark Office.

ACTION: Notice and request for nominations.

SUMMARY: The Department of Commerce (United States Patent and Trademark Office) is accepting nominations for its National Medal of Technology and Innovation (NMTI) program.

Since establishment by Congress in 1980, the President of the United States has awarded the National Medal of Technology and Innovation (formerly known as the National Medal of Technology) annually to our Nation's leading innovators. If you know of a candidate who has made an outstanding, lasting contribution to the economy through the promotion of technology or technological manpower, you may obtain a nomination form from: http://www.uspto.gov/nmti.

Eligibilty and Criteria: Information on eligibility and nomination criteria is provided on the Nominations Guidelines Form at http://www.uspto.gov/nmti.

DATES: The deadline for submission of an application is May 30, 2008.

ADDRESSES: The NMTI Nomination form for year 2008 may be obtained by visiting the Web site at http://www.uspto.gov/nmti. Nomination applications should be submitted to Jennifer Lo, Program Manager, National Medal of Technology and Innovation Program, by electronic mail to: NMTI@uspto.gov or by mail to: Jennifer Lo, United States Patent and Trademark Office, P.O. Box 1450, Alexandria, VA 22323-1450.

FOR FURTHER INFORMATION CONTACT: Jennifer Lo, Program Manager, National Medal of Technology and Innovation Program, United States Patent and Trademark Office, P.O. Box 1450, Alexandria, VA 22313-1450, telephone (571) 272-7640, or electronic mail: nmti@uspto.gov.

SUPPLEMENTARY INFORMATION: Enacted by Congress in 1980, the Medal of Technology was first awarded in 1985. On August 9, 2007, the President signed the America COMPETES (Creating Opportunities to Meaningfully Promote Excellence in Technology, Education, and Science) Act of 2007. The Act amended Section 16 of the Stevenson-Wydler Technology Innovation Act of 1980, changing the name of the Medal to the “National Medal of Technology and Innovation.” The Medal is the highest honor awarded by the President of the United States to America's leading innovators in the field of technology, and is given annually to individuals, teams, or companies who have made outstanding contributions to the promotion of technology or technological manpower for the improvement of the economic, environmental or social well-being of the United States.

The primary purpose of the National Medal of Technology and Innovation is to recognize American innovators whose vision, creativity, and brilliance in moving ideas to market has had a profound and lasting impact on our economy and way of life. The Medal highlights the national importance of fostering technological innovation based upon solid science, resulting in commercially successful products and services.

Dated: January 16, 2008.
Jon W. Dudas,
Under Secretary of Commerce for Intellectual Property and Director of the United States Patent and Trademark Office.

[FR Doc. 08-251 Filed 1-23-08; 8:45am]

BILLING CODE 3510-16-P